DEPARTMENT OF TRANSPORTATION

Federal Highway Administration

Environmental Impact Statement; Calcasieu Parish, LA

AGENCY: Federal Highway Administration (FHWA), DOT.

ACTION: Notice of intent.

SUMMARY: The Federal Highway Administration is issuing this notice to advise the public that an Environmental Impact Statement (EIS) will be prepared for a proposed transportation project in Calcasieu Parish, Louisiana.

FOR FURTHER INFORMATION CONTACT: FHWA Carl Highsmith, Project Delivery Team Leader, FHWA, 5304 Flanders Drive, Suite A, Baton Rouge, Louisiana 70808. Project information can be found at the project Web site http://www.i10lakecharles.com.

SUPPLEMENTARY INFORMATION: The FHWA, in cooperation with the DOTD, will prepare an EIS on alternatives for additional capacity along I-10 in the Lake Charles region between the I-210 interchanges including the Calcasieu River Bridge. A feasibility and environmental study was previously conducted in accordance with the National Environmental Policy Act (NEPA) for this project. The feasibility study involved four phases: (1) Information and Data Gathering; (2) Preliminary Study; (3) Refined Alternatives; and (4) Preparation and Submission of a Final Report. Based on the preliminary studies which included input from the local community, four feasible alternatives have been recommended for further study. A no-build alternative will also be evaluated in accordance with NEPA. The preliminary studies were completed in spring 2004; however the proposed project was placed on hold to evaluate the bridge height and due to the discovery of hazardous materials contamination within the proposed right-of-way. Because of the potential for impacts and issues associated with various socioeconomic and environmental resources and the high-level of public interest, FHWA will prepare an EIS. The total project length is approximately 9 miles. In addition to bridge alternatives, improvements to be investigated within the study limits include: A redesign of Sampson Street from Sulphur Avenue to I-10 to provide grade separations with existing railroads; a redesign of the access to and from I-10 on the west side of the bridge between Sampson Street and PPG Drive; a redesign of the access to and from I-10 near the east end of the bridge; and consideration of the implementation of one-way frontage roads from PPG Drive to US 90 East. Consideration will be given to using the existing bridge for the frontage roads. Proposed changes to the existing bridge to be investigated include: (a) Designing the proposed bridge structure to accommodate three travel lanes and one auxiliary lane, with inside and outside shoulders and two frontage roads in each direction, (b) a reduction in navigational clearance, (c) reducing the existing 420 foot truss span to two main spans, and (d) determining if the existing vertical clearance for marine traffic can be reduced. Letters describing the proposed project and soliciting comments will be sent to appropriate Federal, State, and local agencies, and to private organizations and the public who have previously expressed or are known to have interest in this project. Numerous public meetings will be held throughout the term of the project. The first of these meetings, a series of public scoping meetings, will be conducted to provide the public information about the project and an opportunity to assist in formulating and revising the scope of the study. The public scoping meetings will be scheduled in the future and will be posted to the project Web site http://www.i10lakecharles.com.

In addition, a public hearing will be held. Public notice will be given of the time and place of the meetings and hearing.

To ensure that the full range of issues related to this proposed project are addressed and all significant issues identified, comments and suggestions are invited from all interested parties. Comments or questions concerning this proposed action and the EIS should be directed to the FHWA at the address provided above.

(Catalog of Federal Domestic Assistance Program Number 20.205, Highway Research, Planning, and Construction. The regulations implementing Executive Order 12372 regarding intergovernmental consultation on Federal programs and activities apply to this program.)

Issued on: July 25, 2013.
Charles Bolinger,
Division Administrator, Baton Rouge, Louisiana.

[FR Doc. 2013-18531 Filed 7-31-13; 8:45 am]

BILLING CODE 4910-22-P